JOINT BOARD FOR THE ENROLLMENT OF ACTUARIES

Requirements Relative to Waiver of Segment A of EA-1 Examination and Segment A's Sequel, the EA-1 Examination

AGENCY: Joint Board for the Enrollment of Actuaries.

ACTION: Notice of revision and clarification of requirements.

SUMMARY: The Joint Board for the Enrollment of Actuaries (Joint Board) announces revised requirements relative to the waiver of Segment A of its basic (EA-1) examination and Segment A's sequel, the EA-1 examination.

FOR FURTHER INFORMATION CONTACT: Paulette Tino, Joint Board for the Enrollment of Actuaries, 202-622-7192.

SUPPLEMENTARY INFORMATION: The Joint Board gives notice of a revision to the requirements relative to the waiver of Segment A of its basic (EA-1) examination, which was given for the last time in May 2000, and Segment A's sequel, the EA-1 examination, which will be given beginning in 2001 and thereafter.

Beginning in 2000, the Joint Board will grant a waiver of this examination to any applicant who has received credit from the Society of Actuaries for examinations 2 and 3 of the Society's new examination program.

The Joint Board also clarifies its position regarding the waiver of this examination on account of completed academic work. The Joint Board will grant a waiver to any applicant who has (i) received a bachelor's degree from an accredited institution, and (ii) completed the Joint Board's required courses through a combination of undergraduate and graduate education, provided that the applicant has obtained the graduate credits as part of a degree program, even if the applicant has not actually received a degree.

Dated: July 26, 2000.
Paulette Tino,
Chair, Joint Board for the Enrollment of Actuaries.

[FR Doc. 00-19849 Filed 8-10-00; 8:45 am]

BILLING CODE 4830-01-U